ENVIRONMENTAL PROTECTION AGENCY

[EPA-HQ-OAR-2010-0258; FRL-9911-33-OEI]

Information Collection Request Submitted to OMB for Review and Approval; Comment Request; Alternative Affirmative Defense Requirements for Ultra-low Sulfur Diesel (Renewal)

AGENCY: Environmental Protection Agency (EPA).

ACTION: Notice.

SUMMARY: The Environmental Protection Agency has submitted an information collection request (ICR), “Production Outlook Reports for Un-Registered Renewable Fuels Producers” (EPA ICR No.2409.02, OMB Control No. 2060-0660) to the Office of Management and Budget (OMB) for review and approval in accordance with the Paperwork Reduction Act (44 U.S.C. 3501 et seq.). This is a proposed extension of the ICR, which is currently approved through May 31, 2014. Public comments were previously requested via the Federal Register (78 FR 2571) on February 6, 2014 during a 60-day comment period. This notice allows for an additional 30 days for public comments. A fuller description of the ICR is given below, including its estimated burden and cost to the public. An agency may not conduct or sponsor and a person is not required to respond to a collection of information unless it displays a currently valid OMB control number.

DATES: Additional comments may be submitted on or before June 26, 2014.

ADDRESSES: Submit your comments, referencing Docket ID Number EPA-HQ-OAR-2010-0258, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Geanetta Heard, Fuel Compliance Center, 6406J, Environmental Protection Agency, 1200 Pennsylvania Ave. NW., Washington, DC 20460; telephone number: 202-343-9017 fax number: 202-565-2085 email address: heard.geanetta@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: With this information collection request (ICR), we are seeking permission to accept production outlook reports from domestic or foreign renewable fuel producers who are not currently regulated parties under the RFS2 program and are, therefore, not required to register or report under the RFS2 regulations. Submission of production outlook information to EPA under this ICR will be on a voluntary basis.

The information that respondents provide will allow EPA to more accurately project cellulosic biofuel volumes for the following calendar year, and these volume projections will form the basis of the percentage standards EPA sets under the RFS2 program. Without information from these respondents, EPA's volume projections are more likely to fall below actual projection volumes. Under such circumstances, actual supply for cellulosic biofuel will exceed the demand created by the standards EPA sets, and the value of cellulosic biofuel Renewable Identification Numbers (RINs) will fall. RINs are marketable credits that correspond to a given volume of renewable fuel. Since RIN market price directly affects the economic viability of cellulosic biofuel production, low RIN prices could present economic difficulties to producers. Thus, it is in the interests of these respondents to provide this information to EPA, as doing so could ensure that the market price of RINs appropriately reflects the value of their cellulosic biofuel. This information also serves a more general program purpose because it will assist EPA in setting the annual RFS2 standards more accurately for biomass-based diesel, advanced biofuel, and total renewable fuel. Compiling this information may also assist respondents with their planning and compliance activities. We believe that many parties would wish to submit this information in order to receive better assistance in understanding and complying with the RFS2 regulations.

Form Numbers: 5900-283 (RFS2 0900 Production Outlook Report).

Respondents/affected entities: Domestic or foreign renewable fuel producers who are not currently regulated parties under the RFS2 program.

Respondent's obligation to respond: Mandatory.

Estimated number of respondents: 2 (total).

Frequency of response: Yearly.

Total estimated burden: 24 hours (per year). Burden is defined at 5 CFR 1320.03(b).

Total estimated cost: $2,760 (per year), includes $0 annualized capital or operation & maintenance costs.

Changes in Estimates: There is a decrease of 116 hours in the total estimated respondent burden as compared with the ICR currently approved by OMB. The decrease in hours is due to a decrease in the respondent universe based on the reported number of submissions in the DCFUEL database. The number of respondents decreased by 33 per year lowering the total number of reports collected. These decreases have lowered the total burden even though the cost to report per response has risen due to better numbers used to calculate the industry burden and to account for inflation.

Dated: May 16, 2014.
Erin Collard,
Acting Director, Collection Strategies Division.

[FR Doc. 2014-12171 Filed 5-23-14; 8:45 am]

BILLING CODE 6560-50-P